FEDERAL COMMUNICATIONS COMMISSION

47 CFR Part 25

[GN Docket Nos. 17-183, 18-122; DA 18-640]

Notification of Temporary Filing Freeze on New Fixed-Satellite Service Space Station Applications in the 3.7-4.2 GHz Band

AGENCY: Federal Communications Commission.

ACTION: Final action.

SUMMARY: In this document, the International Bureau (Bureau) announces a temporary freeze on the filing of new space station license applications and new requests for U.S. market access through non-U.S.-licensed space stations to provide fixed-satellite service (FSS) in the 3.7-4.2 GHz band.

DATES: The temporary freeze was effective June 21, 2018.

FOR FURTHER INFORMATION CONTACT: Christopher Bair, 202-418-0945 or Paul Blais, 202-418-7274.

SUPPLEMENTARY INFORMATION: This is a summary of the Commission's document, DA 18-640, released June 21, 2018. The full text of this document is available at https://docs.fcc.gov/public/attachments/DA-18-640A1.pdf. It is also available for inspection and copying during business hours in the FCC Reference Information Center, Portals II, 445 12th Street SW, Room CY-A257, Washington, DC 20554. To request materials in accessible formats for people with disabilities, send an email to FCC504@fcc.gov or call the Consumer & Governmental Affairs Bureau at 202-418-0530 (voice), 202-418-0432 (TTY).

Background. On August 3, 2017, the Commission released a Notice of Inquiry titled Expanding Flexible Use in Mid-Band Spectrum Between 3.7 and 24 GHz (NOI). In that NOI, the Commission sought detailed comment on frequency bands that had garnered interest to potentially support increased flexible broadband uses, including the 3.7-4.2 GHz band. To preserve the current landscape of authorized operations pending Commission action as part of its ongoing inquiry into the possibility of permitting terrestrial broadband use and more intensive fixed use of the band (Mid-band Proceeding), the International, Public Safety and Homeland Security, and Wireless Telecommunications Bureaus announced a temporary freeze effective on April 19, 2018, on the filing of new or modification applications for FSS earth station licenses, FSS receive-only earth station registrations, and fixed microwave licenses in the 3.7-4.2 GHz frequency band. The Bureau also announced a 90-day filing window during which operators of existing, but unregistered or unlicensed, earth stations operating in the 3.7-4.2 GHz band could continue to file applications. See 83 FR 21746. The Bureau extended this filing window for an additional 90-days on June 21, 2018.

Temporary Freeze. To further preserve the landscape of authorized operations in the 3.7-4.2 GHz band pending Commission action as part of its ongoing inquiry in the Mid-band Proceeding, the Bureau announces a temporary freeze, effective as of June 21, 2018, on the filing of new space station license applications and new requests for U.S. market access through non-U.S.-licensed space stations in the 3.7-4.2 GHz band. During the freeze, the International Bureau will dismiss any new space station license applications and new requests for access to the U.S. market through non-U.S.-licensed space stations, or those parts of any such applications and requests, that seek to operate in the 3.7-4.2 GHz band. The freeze does not apply to applications for modification of existing authorizations, relocations of existing space stations pursuant to the Commission's fleet management policy, or to applications for replacement space stations.

Waiver Requests. The International Bureau will consider requests for waiver of this freeze on a case-by-case basis and upon a demonstration that waiver will serve the public interest and not undermine the objectives of the freeze.

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4). The Commission will not send a copy of this document pursuant to the Congressional Review Act, see 5 U.S.C. 801(a)(1)(A), because the adopted rules are rules of agency organization, procedure, or practice that do not “substantially affect the rights or obligations of non-agency parties.

Federal Communications Commission.
Troy Tanner,
Deputy Chief, International Bureau.

[FR Doc. 2018-17297 Filed 8-13-18; 8:45 am]

BILLING CODE 6712-01-P